NATIONAL FOUNDATION ON THE ARTS AND THE HUMANITIES

National Council on the Arts 183rd Meeting

AGENCY: National Endowment for the Arts, National Foundation on the Arts and Humanities.

ACTION: Notice of meeting.

SUMMARY: Pursuant to section 10 (a)(2) of the Federal Advisory Committee Act (Pub. L. 92-463), as amended, notice is hereby given that a meeting of the National Council on the Arts will be held at the in Grand Ballroom B of the Mandarin Hotel, 1330 Maryland Avenue SW., Washington, DC 20024. This meeting also will be webcast. Agenda times are approximate.

DATES: Friday, October 31, 2014 from 9 a.m. to 11:15 a.m.

FOR FURTHER INFORMATION CONTACT: Office of Public Affairs, National Endowment for the Arts, Washington, DC 20506, at 202/682-5570.

SUPPLEMENTARY INFORMATION: The meeting, on Friday, October 31st, will be open to the public on a space available basis. The meeting will begin with opening remarks and voting on recommendations for funding and rejection and guidelines, followed by updates by the Chairman. There also will be the following presentations (times are approximate): From 9:30 a.m. to 10 a.m.—The Art of Empathy: Celebrating Literature in Translation (Amy Stolls: Director of Literature; Don Ball: Assistant Director of Publications, Office of Public Affairs; Esther Allen: Writer, Editor, & Literary Translator); from 10 a.m. to 10:30 a.m.—presentations from the Dallas Museum of Art (Eugene McDermott: Director, Maxwell Anderson); from 10:30 a.m. to 11 a.m.—presentation from Center of Creative Arts (COCA), St. Louis (Kelly Pollack: Executive Director; COCA Alum: Christopher Page). From 11-11:15 there will be concluding remarks from the Chairman and announcement of voting results. The meeting will adjourn at 11:15 a.m.

To register to watch the webcasting of the open session of this meeting, go to http://artsgov.adobeconnect.com/nca-oct2014-webcast/event/registration.html.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: October 6, 2014.
Kathy Plowitz-Worden,
Panel Coordinator, Office of Guidelines and Panel Operations.

[FR Doc. 2014-24153 Filed 10-8-14; 8:45 am]

BILLING CODE 7537-01-P